DEPARTMENT OF COMMERCE

International Trade Administration

[A-427-820, A-428-830, A-475-829, A-580-847, A-583-836, A-412-822]

Notice of Initiation of Antidumping Duty Investigations: Stainless Steel Bar From France, Germany, Italy, Korea, Taiwan and the United Kingdom

Correction

In notice document 01-2057 beginning on page 7620 in the issue of Wednesday, January 24, 2001, make the following correction:

On page 7626, in the second column, the date “January 7, 2001” should read “January 17, 2001”.

[FR Doc. C1-2057 Filed 3-13-01; 8:45 am]

BILLING CODE 1505-01-D

DEPARTMENT OF EDUCATION

Notice of Proposed Information Collection Requests

Correction

In notice document 01-5652 beginning on page 13917 in the issue of Thursday, March 8, 2001, make the following correction:

On page 13917 in the first column, in the DATES section, “March 7, 2001 ” should read “May 7, 2001 ”

[FR Doc. C1-5652 Filed 3-13-01; 8:45 am]

BILLING CODE 1505-01-D

NUCLEAR REGULATORY COMMISSION

[Docket No. 50-285]

Omaha Public Power District; Notice of Consideration of Issuance of Amendment to Facility Operating License, Proposed No Significant Hazards Consideration Determination, and Opportunity for a Hearing

Correction

In notice document 01-5409 beginning on page 13355 in the issue of Monday, March 5, 2001, make the following correction:

On page 13356, in the third column, in the second full paragraph, the date “April 5, 2001” should read “April 4, 2001”.

[FR Doc. C1-5409 Filed 3-13-01; 8:45 am]

BILLING CODE 1505-01-D